DEPARTMENT OF TRANSPORTATION

National Highway Traffic Safety Administration

Reports, Forms, and Record Keeping Requirements; Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on August, 11, 2004, Volume 69, Number 154, page numbers 48906 and 48907.

This document describes two collections of information for which NHTSA intends to seek OMB approval.

DATES: Comments must be submitted on or before February 28, 2005.

FOR FURTHER INFORMATION CONTACT: Michael J. Jordan, National Highway Traffic Safety Administration (NVS-216), 400 Seventh Street, SW., (Room 2318), Washington, DC 20590. Mr. Jordan's telephone number is (202) 493-0576.

SUPPLEMENTARY INFORMATION:

National Highway Traffic Safety Administration

Title: Voluntary Child Safety Seat Registration Form.

OMB Control Number: 2127-0576.

Type of Request: Renewal of an Existing Collection of Information.

Abstract: Chapter 301 of Title 49 of the United States provides that if either NHTSA or a manufacturer determines that motor vehicles or items of motor vehicle equipment contain a defect that relates to motor vehicle safety or fail to comply with an applicable Federal Motor Vehicle Safety Standard, the manufacturer must notify owners and purchasers of the defect or noncompliance and must provide a remedy without charge. Pursuant to 49 CFR Part 577, defect and noncompliance notification for equipment items, including child restraint systems (CRS), must be sent by first class mail to the most recent purchaser known to the manufacturer. To increase the likelihood that CRS manufacturers will be aware of the identity of purchasers, NHTSA adopted S5.8 of Federal Motor Vehicle Safety Standard No. 213, to require manufacturers to include a postage-paid form with each CRS so the purchaser can register with the manufacturer. In addition to the registration form supplied by the manufacturer, NHTSA has implemented a CRS registration system to assist those individuals who have either lost the registration form that came with the CRS or purchased a previously owned CRS. In the absence of a registration system, many owners of child passenger safety seats would not be notified of safety defects and noncompliance issues, and would not have the defects and noncompliance issues remedied, because the manufacturer would not be aware of their identities.

Affected Public: Individuals and Households.

Estimated Total Annual Burden: 567 hours.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: January 19, 2005.
Kenneth N. Weinstein,
Associate Administrator for Enforcement.

[FR Doc. 05-1466 Filed 1-26-05; 8:45 am]

BILLING CODE 4910-59-P